NATIONAL AERONAUTICS AND SPACE ADMINISTRATION

[Notice 05-004]

NASA Exploration Transportation System Strategic Roadmap Committee; Meeting

AGENCY: National Aeronautics and Space Administration (NASA).

ACTION: Notice of meeting.

SUMMARY: In accordance with the Federal Advisory Committee Act, Public Law 92-463, as amended, the National Aeronautics and Space Administration announces a forthcoming meeting of the NASA Exploration Transportation System Strategic Roadmap Committee.

DATES: Thursday, February 3, 2005, 8 a.m. to 6 p.m.; and Friday, February 4, 2005, 8 a.m. to 12 noon.

ADDRESSES: Sheraton Safari Hotel, 12205 Apopka Vineland Road, Orlando, FL 32836.

FOR FURTHER INFORMATION CONTACT: Dr. Dana Gould, MS 149, National Aeronautics and Space Administration Langley Research Center, Hampton, VA 23681-2199 (757) 864-7747.

SUPPLEMENTARY INFORMATION: The meeting will be open to the public up to the capacity of the room. Visitors to the meeting will be requested to sign a visitor's register.

The agenda for the meeting includes the following topics:

—Background and Stage Setting for Exploration Transportation System Strategic Roadmap.

—Exploration Transportation Strategic Roadmap Framework Introduction.

—Exploration Transportation Strategic Roadmap Initial Development.

It is imperative that the meeting be held on this date to accommodate the scheduling priorities of the key participants.

P. Diane Rausch,
Advisory Committee Management Officer, National Aeronautics and Space Administration.

[FR Doc. 05-952 Filed 1-14-05; 8:45 am]

BILLING CODE 7510-13-P